DEPARTMENT OF THE INTERIOR

Bureau of Reclamation

[RR03250000, 21XR0680G1, RX15232000WMENVIR]

Notice of Intent To Prepare an Environmental Impact Statement, White Mountain Apache Tribe Rural Water System Project, Apache County, Arizona

AGENCY: Bureau of Reclamation, Interior.

ACTION: Notice of intent; request for comments.

SUMMARY: The Bureau of Reclamation (Reclamation), as the lead Federal agency, intends to prepare an Environmental Impact Statement (EIS) to evaluate the effects of the construction and operation of the proposed White Mountain Apache Tribe (WMAT) Rural Water System Project. The WMAT, Bureau of Indian Affairs (BIA), and U.S. Army Corps of Engineers (USACE) have been identified as cooperating agencies. Reclamation requests comments concerning the scope of the analysis and identification of relevant information, studies, and analyses.

DATES: Submit comments on or before May 19, 2021. The draft EIS is scheduled for December 2021 and the final EIS is scheduled for November 2022 with a Record of Decision issued in January 2023.

ADDRESSES: Send written comments on the EIS to the Phoenix Area Office, Bureau of Reclamation (Attn: WMAT Rural Water System EIS), 6150 West Thunderbird Road, Glendale, AZ 85306. Comments may also be sent via email to dgraziani@usbr.gov, or via the Project website at: https://www.wmat-rws-eis.com/.

FOR FURTHER INFORMATION CONTACT: Mr. Dominic Graziani at (623) 773-6216 or via email at dgraziani@usbr.gov. Individuals who use telecommunication devices for the deaf (TDD) may call the Federal Information Relay Service (FIRS) at 1-800-877-8339 between 8 a.m. and 8 p.m., Eastern Time, Monday through Friday.

SUPPLEMENTARY INFORMATION: Pursuant to the WMAT Water Rights Quantification Act (Title III of the Claims Resolution Act of 2010) (Act), the U.S. Congress authorized the Secretary of the Interior (Secretary), through an Indian Self-Determination and Education Assistance Act agreement with the WMAT, to plan, design, and construct a project to divert, store, and distribute water from the North Fork of the White River for the use and benefit of the WMAT. The Proposed Action would fulfill Reclamation's statutory mandate under the Act and would provide a long-term, dependable, and sustainable water supply for residents and businesses on the Fort Apache Indian Reservation. This notice also opens public scoping to identify potential issues, concerns, and alternatives to be considered in the EIS. Pursuant to the National Environmental Policy Act of 1969 (NEPA), as amended, 42 U.S.C. 4321-4347; the Council on Environmental Quality's Regulations for Implementing the Procedural Provisions of NEPA, 40 CFR parts 1500-1508; and the Department of the Interior's regulations, 43 CFR part 46, Reclamation, as the lead federal agency, intends to prepare an EIS. The proposed Project would construct and operate a dam, storage reservoir, pumping plant, treatment facilities, and a distribution system that would provide water to communities located on the Fort Apache Indian Reservation. Reclamation first issued a Notice of Intent to prepare an EIS for this project on September 6, 2013, but the EIS was put on hold in August 2015 due to project complications.

Purpose and Need for the Proposed Action

The Proposed Action would provide a long-term, dependable, and sustainable water supply for residents and businesses on the Fort Apache Indian Reservation, Arizona.

The Proposed Action would fulfill Reclamation's statutory mandate under the WMAT Water Rights Quantification Act (Title III of the Claims Resolution Act of 2010) (Act) to plan, design, and construct, as well as to operate, maintain, and replace the WMAT Rural Water System until the date the Project is transferred to the WMAT as provided in the Act.

Preliminary Proposed Action and Alternatives

The Proposed Action consists of construction and operation of the Project as authorized by the Act. The Proposed Action would include construction and operation of a dam, storage reservoir, water pumping plant, water treatment facilities, and a distribution system that would provide water to the communities of Whiteriver, Fort Apache, Canyon Day, Cedar Creek, Carrizo, and Cibecue located on the Fort Apache Indian Reservation. After completion of construction and operation of the new facilities for a period of three years by Reclamation, the WMAT would become the titled owner and operator of the completed water system. The proposed Miner Flat Reservoir would hold approximately 8,350 acre-feet of water and the dam would be 163 feet high and 407 feet in length. Water from the Miner Flat Reservoir would be released to the North Fork of White River, diverted from the stream channel upstream of the community of Whiteriver, and subsequently treated and conveyed via pipeline to downstream Fort Apache Indian Reservation communities. Construction of the distribution system would include 50 miles of new water transmission pipeline. As required by NEPA, the EIS will include and consider a Proposed Action and a reasonable range of alternatives, including a No Action Alternative. Implementation of one of the NEPA Action Alternatives would meet current and future water needs for the WMAT per the Act and would fulfill Reclamation's statutory requirements under the Act.

Reasonable alternatives to the Proposed Action may include a combination of various reservoir operations and priorities, including: (a) Meeting projected Rural Water System demands; (b) accommodating continuing water diversions for agricultural irrigation; and, (c) maintaining instream flow.

Summary of Expected Impacts

The EIS will identify and describe the effects that are reasonably foreseeable and have a reasonably close causal relationship to the proposed action or alternatives, including those effects that occur at the same time and place as the proposed action or alternatives and may include effects that are later in time or farther removed in distance from the proposed action or alternatives (40 CFR 1508.1(g)). All potentially relevant environmental resource areas were initially considered for analysis. Expected impacts include, but are not limited to, positive and/or negative impacts to water resources, soils and geology, biological resources, cultural resources, Indian Trust Assets, transportation, socioeconomics, air quality, climate change, noise, land use, visual resources, hazardous materials and waste, and utilities and infrastructure. The effects of these expected impacts will be considered in the EIS and the range of issues and alternatives addressed may be expanded or reduced based on comments received in response to this notice and at the virtual public scoping meeting.

Anticipated Permits and Authorizations

The Proposed Action may require the following permits, certifications, and/or determinations:

• Biological Opinion from the U.S. Fish and Wildlife Service pursuant to Section 7 of the Endangered Species Act

• Concurrence from the Tribal Historic Preservation Officer pursuant to Section 106 of the National Historic Preservation Act

• Section 404 permit from the USACE pursuant to Section 404 of the Clean Water Act (CWA)

• Water quality certification pursuant to Section 401 of the CWA

• National Pollutant Discharge Elimination System permit for the water treatment plant pursuant to Section 402 of the CWA

• General permit for stormwater discharges from construction activity pursuant to Section 402 of the CWA, and preparation of a Storm Water Pollution Prevention Plan

• BIA Road Encroachment Permit for construction work along BIA Route 61 (Alchesay Fish Hatchery Road) and BIA Route 12

• BIA Federal easement granted to Reclamation for construction of the Rural Water System

• Arizona Department of Highway Encroachment Permit for construction work inside the right-of-way of State Highway 73

Schedule for the Decision-Making Process

Reclamation will conduct an environmental review to analyze the effects of the Proposed Action, along with other alternatives considered and the associated impacts of each alternative for the development of a Draft EIS. Following completion of the environmental review, Reclamation will publish a notice of availability and request for public comments on the Draft EIS, which is expected to be made public in December 2021. In preparing the Final EIS, which is planned for issuance in 2022, Reclamation will respond to comments received on the Draft EIS. At least 30 days after the Final EIS is available, the Record of Decision will be issued in accordance with applicable timeframes established in 40 CFR 1506.11.

Public Scoping Process

This notice of intent initiates the scoping process, which guides the development of the EIS. Reclamation invites interested parties to participate in the scoping process to help identify the range of reasonable alternatives and the environmental issues to be analyzed.

A virtual public scoping meeting will be held on May 1, 2021, to solicit comments on the scope of the EIS and the issues and alternatives that should be analyzed. Detailed information for the virtual scoping meeting process will be announced in advance through local media, newspapers, and the project website at: https://www.wmat-rws-eis.com/. At the time of this publication, the dates and log-in information for the scoping meeting will be available on the project website.

Additional opportunities to review project materials, ask questions, and submit comments will be provided on the project website (https://www.wmat-rws-eis.com/) or at the phone number above. It is important that reviewers provide their comments at such times and in such manner that they are useful to the agency's preparation of the EIS. Therefore, comments should be provided prior to the close of the comment period and should clearly articulate the reviewer's concerns and contentions. Comments received, including names and addresses of those who comment, will be part of the public record for this Proposed Action.

Public Availability of Comments

Before including your address, phone number, email address, or other personal identifying information in your comment, you should be aware that your entire comment—including your personal identifying information—may be made publicly available at any time. While you can ask us in your comment to withhold your personal identifying information from public review, we cannot guarantee that we will be able to do so.

Request for Identification of Potential Alternatives, Information, and Analyses Relevant to the Proposed Action

Reclamation requests assistance with identifying potential alternatives to the Proposed Action to be considered. As suggested alternatives should still meet the purpose and need for the Proposed Action, please be as descriptive as possible with the suggested alternative. Reclamation also requests that potential impacts that should be analyzed be identified. Impacts should be a result of the action; therefore, please identify the activity and the potential impact that should be analyzed. Information that reviewers have that would assist in the development of alternatives or analysis of resource issues is also helpful.

Lead and Cooperating Agencies

Reclamation is the lead Federal agency and the WMAT, BIA, and USACE are cooperating agencies in the preparation of this EIS.

Decision Maker

The responsible official is Reclamation's Regional Director, Interior Region 8: Lower Colorado Basin, as delegated by the Secretary of the Interior.

Nature of Decision To Be Made

In accordance with the Act, “the Secretary shall carry out all necessary environmental compliance activities required by Federal law in implementing the Agreement [WMAT Water Rights Quantification Agreement dated January 13, 2009].” Following completion of a final EIS, the responsible official will approve a Record of Decision.

Karl Stock,
Acting Regional Director, Interior Region 8: Lower Colorado Basin, Bureau of Reclamation.

[FR Doc. 2021-07974 Filed 4-16-21; 8:45 am]

BILLING CODE 4332-90-P